DEPARTMENT OF THE INTERIOR

Fish and Wildlife Service

[FWS-HQ-MB-2020-N151; FF09M21200-201-FXMB1231099BPP0; OMB Control Number 1018-0171]

Agency Information Collection Activities; Submission to the Office of Management and Budget for Review and Approval; Establishment of Annual Migratory Bird Hunting Seasons

AGENCY: Fish and Wildlife Service, Interior.

ACTION: Notice of information collection; request for comment.

SUMMARY: In accordance with the Paperwork Reduction Act of 1995, we, the U.S. Fish and Wildlife Service (Service), are proposing to renew an information collection.

DATES: Interested persons are invited to submit comments on or before January 19, 2021.

ADDRESSES: Written comments and recommendations for the proposed information collection should be sent within 30 days of publication of this notice to www.reginfo.gov/public/do/PRAMain. Find this particular information collection by selecting “Currently under Review—Open for Public Comments” or by using the search function. Please provide a copy of your comments to the Service Information Collection Clearance Officer, U.S. Fish and Wildlife Service, MS: PRB (JAO/3W), 5275 Leesburg Pike, Falls Church, VA 22041-3803 (mail); or by email to Info_Coll@fws.gov. Please reference OMB Control Number 1018-0171 in the subject line of your comments.

FOR FURTHER INFORMATION CONTACT: Madonna L. Baucum, Service Information Collection Clearance Officer, by email at Info_Coll@fws.gov, or by telephone at (703) 358-2503. Individuals who are hearing or speech impaired may call the Federal Relay Service at 1-800-877-8339 for TTY assistance. You may also view the information collection request (ICR) at http://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

On April 2, 2020, we published in the Federal Register (85 FR 18532) a proposed rule to begin the process of establishing migratory bird hunting regulations for certain Tribes on Federal Indian reservations, off-reservation trust lands, and ceded lands for the 2020-21 migratory bird hunting season. That Federal Register document also contained notice of our intent to request that OMB approve this related information collection. In that notice, we solicited comments for 60 days, ending on June 1, 2020. We did not receive any comments in response to that proposed rule.

Additionally, on May 1, 2020, the Migratory Bird Program shared the proposed rule document with the Flyway Council representatives to solicit their feedback on the information collection requirements. We extended the comment period for the Flyway Councils to provide comments until October 30, 2020, so that they could share the information during their annual August/September Flyway Council meetings. We did not receive any comments in response to that additional comment opportunity.

As part of our continuing effort to reduce paperwork and respondent burdens, we are again soliciting comments from the public and other Federal agencies on the proposed information collection request (ICR) that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: Migratory game birds are those bird species so designated in conventions between the United States and several foreign nations for the protection and management of these birds. Under the Migratory Bird Treaty Act (16 U.S.C. 703-712), the Secretary of the Interior is authorized to determine when “hunting, taking, capture, killing, possession, sale, purchase, shipment, transportation, carriage, or export of any * * * bird, or any part, nest, or egg” of migratory game birds can take place, and to adopt regulations for this purpose. These regulations are written after giving due regard to “the zones of temperature and to the distribution, abundance, economic value, breeding habits, and times and lines of migratory flight of such birds” and are updated annually (16 U.S.C. 704(a)). This responsibility has been delegated to the Service as the lead Federal agency for managing and conserving migratory birds in the United States. However, migratory game bird management is a cooperative effort of State, Tribal, and Federal governments. Migratory game bird hunting seasons provide opportunities for recreation and sustenance; aid Federal, State, and Tribal governments in the management of migratory game birds; and permit harvests at levels compatible with migratory game bird population status and habitat conditions.

The Service develops migratory game bird hunting regulations by establishing the frameworks, or outside limits, for season lengths, bag limits, and areas for migratory game bird hunting. Acknowledging regional differences in hunting conditions, the Service has administratively divided the Nation into four Flyways for the primary purpose of managing migratory game birds. Each Flyway (Atlantic, Mississippi, Central, and Pacific) has a Flyway Council, a formal organization generally composed of one member from each State and Province in that Flyway. The Flyway Councils, established through the Association of Fish and Wildlife Agencies, also assist in researching and providing migratory game bird management information for Federal, State, and Provincial governments, as well as private conservation entities and the general public.

We request the following information to establish annual migratory bird hunting seasons:

Information Requested To Establish Annual Migratory Bird Hunting Seasons

As a result of the incremental annual rulemaking process explained above, the information requested from States is solicited during a different point in the overall rulemaking process than the information requested from Tribal governments. However, the final rules published at the end of the rulemaking process each year incorporate all information received from the State and Tribal governments. Therefore, this ICR incorporates both the annual requests for Tribal proposals in the proposed rules and the information requested annually from the States during subsequent proposed rules (all under the same Regulatory Identifier Number; we post all rules electronically on the Service's website (https://www.fws.gov/policy/frsystem/default.cfm). State and Tribal governments are aware of this process that affords them the opportunity to provide comments on the information collection requirements identified in the PRA section of each rule.

The information identified below, necessary to establish annual migratory bird hunting seasons, is solicited annually from State (including U.S. territory) and Tribal governments. The required information, received at various times in the year prior to the actual hunting season as part of the rulemaking process described above, is used by the Service as part of the final rulemaking process necessary to open annual hunting seasons otherwise closed by law.

Details Needed From States and U.S. Territories

State and U.S. territory governments that wish to establish annual migratory game bird hunting seasons are required to provide the requested dates and other details for hunting seasons in their respective States or Territories. The information is provided to the Service in a non-form format, usually via letter or spreadsheet, in response to solicitations for the information sent to the State governments each year via an emailed letter and as part of the first final rule (for the frameworks).

Details Needed From Tribal Governments

Tribes that wish to use the guidelines (published June 4, 1985, 50 FR 23459—copy uploaded to ROCIS) to establish special hunting regulations for the annual migratory game bird hunting season are required to submit a proposal that includes:

(1) The requested migratory game bird hunting season dates and other details regarding the proposed regulations;

(2) Harvest anticipated under the proposed regulations; and

(3) Tribal capabilities to enforce migratory game bird hunting regulations.

For those situations where it could be shown that failure to limit Tribal harvest could seriously impact the migratory game bird resource, we also request information on the methods employed to monitor harvest and any potential steps taken to limit level of harvest.

A Tribe that desires the earliest possible opening of the migratory game bird season for nontribal members should specify this request in its proposal, rather than request a date that might not be within the final Federal frameworks. Similarly, unless a Tribe wishes to set more restrictive regulations than Federal regulations will permit for nontribal members, the proposal should request the same daily bag and possession limits and season length for migratory game birds that Federal regulations are likely to permit the States in the Flyway in which the reservation is located.

Reports (50 CFR part 20): The following reports are requested from the States and are submitted either annually or every 3 years as explained in the following text.

Reports From Experimental Hunting Seasons and Season Structure Changes (Required)

Atlantic Flyway Council

• Delaware—Experimental tundra swan season (Yearly updates and Final report).

• Florida (Completed)—Experimental teal-only season (Yearly updates and Final report).

Mississippi Flyway Council

• Alabama—Experimental sandhill crane season (Yearly updates and Final report).

Central Flyway Council

• Nebraska (Completed)—Experimental teal season (Yearly updates and Final report).

• New Mexico—Sandhill crane season in Estancia Valley: Yearly updates and Final report. This report was changed from experimental to operational. Annual data are still required, but there is not a final report, since this monitoring will occur in perpetuity (or as long as the State has that hunt area).

• Wyoming—Split (three-way) season for Canada geese (Final report only).

Pacific Flyway Council

• California—Zones and split season for white-fronted geese (Final report only).

Additional State-Specific Annual Reports

State-Specific

• Arizona—Sandhill crane racial composition of the harvest conducted at 3-year intervals.

• North Carolina and Virginia—Tundra swan harvest and hunter participation data (Yearly).

• Montana (Central Flyway portion), North Dakota, and South Dakota—Tundra swan harvest and hunter participation data (Yearly).

• Montana (Pacific Flyway portion)—Swan harvest-monitoring program to measure species composition (Yearly).

• Montana (Pacific Flyway portion), Utah, and Nevada—Swan harvest-monitoring program to measure the species composition and report detailing swan harvest, hunter participation, reporting compliance, and monitoring of swam populations in designated hunt areas (Yearly).

Reports and monitoring are used for a variety of reasons. Some are used to monitor species composition of the harvest for those areas where species intermingling can confound harvest management, and potential overharvest of one species can be of management concern. Others are used to determine overall harvest for those species and/or areas that are not sampled well by our overall harvest surveys due to either the limited nature/area of the hunt or season, or where the harvest needs to closely monitored. Experimental season reports are used to determine whether the experimental season is achieving its intended goals and objectives, without causing unintended harm to other species and ultimately whether the experimental season should proceed to operational status. Most experimental seasons are 3-year trials with yearly reports and a final report. Most of the other reports and monitoring are conducted either annually or at 3-year intervals.

Title of Collection: Establishment of Annual Migratory Bird Hunting Seasons, 50 CFR part 20.

OMB Control Number: 1018-0171.

Form Numbers: None.

Type of Review: Extension of a currently approved collection.

Respondents/Affected Public: State and Tribal governments.

Total Estimated Number of Annual Respondents: 82 (from 52 State governments and Territories and 30 Tribal governments).

Total Estimated Number of Annual Responses: 99 (includes State and Tribal governments and additional reports from States).

Estimated Completion Time per Response: Varies from 4 hours to 650 hours, depending on activity.

Total Estimated Number of Annual Burden Hours: 9,878.

Respondent's Obligation: Required to obtain or retain a benefit.

Frequency of Collection: Annually.

Total Estimated Annual Nonhour Burden Cost: None.

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2020-27887 Filed 12-17-20; 8:45 am]

BILLING CODE 4333-15-P